DEPARTMENT OF AGRICULTURE

Forest Service

Transfer of Administrative Jurisdiction: Fort Leonard Wood Military Reservation Interchange, Mark Twain National Forest, MO

Correction

In notice document 01-22846 beginning on page 47448 in the issue of September 12, 2001, make the following correction:

On page 47449, in the third column, the heading “Township 34 North, Range 42 West, 5th Principal Meridian:” should read “Township 34 North, Range 12 West, 5th Principal Meridian: ”.

[FR Doc. C1-22846 Filed 2-1-02; 8:45 am]

BILLING CODE 1505-01-D

DEPARTMENT OF COMMERCE

National Oceanic and Atmospheric Administration

50 CFR Part 679

[Docket No. 010313063-1297-02; I.D. 121200A]

RIN 0648-A020

Fisheries of the Exclusive Economic Zone Off Alaska; Revisions to Recordkeeping and Reporting Requirements

Correction

In rule document 02-1875 beginning on page 4100 in the issue of Monday, January 28, 2002, make the following correction:

§ 679.5 [Corrected]

On page 4124, in the second column, §679.5, in paragraph (g)(5)(v), in the fifth line, “}” should read, “}”.

[FR Doc. C2-1875 Filed 2-1-02; 8:45 am]

BILLING CODE 1505-01-D

ENVIRONMENTAL PROTECTION AGENCY

[OPP-34252; FRL-6820-2]

Oxyfluorfen; Availability of Risk Assesments (Interim Process)

Correction

In notice document 02-2237 beginning on page 4425 in the issue of Wednesday, January 30, 2002, make the following correction:

On page 4425, in the second column, in the second line, “January 30, 2002” should read, “April 1, 2002”.

[FR Doc. C2-2237 Filed 2-1-02; 8:45 am]

BILLING CODE 1505-01-D

DEPARTMENT OF TRANSPORTATION

Federal Aviation Administration

14 CFR Part 39

[Docket No. 99-NE-17-AD; Amendment 39-12557; AD 2001-25-04]

RIN 2120-AA64

Airworthiness Directives; Honeywell International Inc. Models LTS101-600A-2 and LTS101-600A-3 Turboshaft Engines; and LTP101-600A-1A and LTP101-700A-1A Turboprop Engines

Correction

In rule document C1-30951 beginning on page 65426 in the issue of Wednesday, December 19, 2001, make the following correction:

§39.13 [Corrected]

On page 65427, in §39.13, in the third column, under the heading Applicability, in the fourth line “LTS101-6000A-2 ” should read “LTS101-600A-2 ”.

[FR Doc. C1-30951 Filed 2-1-02; 8:45 am]

BILLING CODE 1505-01-D

DEPARTMENT OF THE TREASURY

Internal Revenue Service

26 CFR Part 1

[TD 8976]

RIN 1545-AX20

Dollar-Value LIFO Regulations; Inventory Price Index Computation Method

Correction

In rule document 02-184, beginning on page 1075, in the issue of Wednesday, January 9, 2002, make the following corrections:

§1.472-8 [Corrected]

1. On page 1083, in the third column, in §1.472-8(e)(3)(iii)(B)(4), in Example 3, in the eighth line “(e)(2)(ii)(b)” should read “(e)(2)(ii)(b)”.

2. On page 1084, in the third column, in §1.472-8(e)(3)(iii)(D), in the first line, “(D)” should read “(D)”.

3. On page 1089, in the first column, in §1.472-8(e)(3)(iii)(E)(3), in Example 1, in the table, in paragraph (iv), in the second line, the word “Tab1e” should read “Table”.

4. On the same page, in the same column, in §1.472-8(e)(3)(iii)(E)ÿ7E(3), in Example 1, in paragraph (vi) in the 12th line, “($908,355.80—$850,000.00)” should read “($908,355.80−$850,000.00)”.

5. On the same page, in the second column, in §1.472-8(e)(3)(iii)(E)ÿ7E(3) in Example 1, in paragraph (vii), in the second line, “2002.0” should read “2002”.

[FR Doc. C2-184 Filed 2-1-02; 8:45 am]

BILLING CODE 1505-01-D

DEPARTMENT OF THE TREASURY

Internal Revenue Service

26 CFR Part 1

[REG-119436-01]

RIN 1545-AY87

New Markets Tax Credit

Correction

In proposed rule document 01-31529, beginning on page 66376, in the issue of Wednesday, December 26, 2001, make the following corrections:

On page 66376, in the second column, in the first full paragraph,

(a) In the fifth line, “utility; The accuracy of” should read, “utility;”.

(b) In the same column, “The accuracy of“ begins a new paragraph.

[FR Doc. C1-31529 Filed 2-1-02; 8:45 am]

BILLING CODE 1505-01-D